DEPARTMENT OF DEFENSE

Office of the Secretary

[Docket ID: DOD-2010-OS-0070]

U.S. Court of Appeals for the Armed Forces Proposed Change to Electronic Filing Guidelines

AGENCY: Department of Defense (DoD).

ACTION: Notice of proposed change to the Electronic Filing Guidelines of the United States Court of Appeals for the Armed Forces.

SUMMARY: This notice announces the following proposed change by Court Order to the Electronic Filing Guidelines of the United States Court of Appeals for the Armed Forces.

DATES: Comments on the proposed change must be received within 30 days of the date of this notice.

ADDRESSES: You may submit comments, identified by docket number and title by any of the following methods:

• Federal eRulemaking Portal: http://www.regulations.gov. Follow the instructions for submitting comments.

• Mail: Federal Docket Management System Office, 1160 Defense Pentagon, OSD Mailroom 3C843, Washington, DC 20301-1160.

Instructions: All submissions received must include the agency name and docket number for this Federal Register document. The general policy for comments and other submissions from members of the public is to make these submissions available for public viewing on the Internet at http://regulations.gov as they are received without change, including personal identifiers or contact information.

FOR FURTHER INFORMATION CONTACT: William A. DeCicco, Clerk of the Court, telephone (202) 761-1448.

Dated: May 26, 2010.
Mitchell S. Bryman,
Alternate OSD Federal Register Liaison Officer, Department of Defense.

Proposed New Order for Electronic Filing of Pleadings

Effective (date), all pleadings, except as noted below, may be filed on paper or electronically in accordance with the guidelines attached to this Order. Joint Appendices to Briefs, filed under Rule 24(f), Rules of Practice and Procedure, shall be filed in paper form only. Administrative matters, such as bar admission applications and attorney disciplinary proceedings, may not be filed electronically. Attorneys appearing before the Court are reminded that personal data identifiers must be redacted from documents filed electronically. See Guideline paragraph 3h.

This Order supersedes the Order of the Court of July 15, 2009, concerning electronic filing of petition documents, and that Order is hereby rescinded effective (date).

Guidelines for Electronic Filing of Pleadings

1. Scope.

The United States Court of Appeals for the Armed Forces adopts the following provisions to govern the electronic filing of pleadings:

a. This Order applies to all pleadings filed electronically on or after (date). Alternatively, pleadings may be filed in a paper format; however, the same pleading may not be filed both electronically and on paper.

b. Administrative matters, such as bar admission applications and attorney disciplinary proceedings, may not be filed electronically.

c. If the supplement to the petition for grant of review is filed electronically, an appendix to the supplement (containing the decision of the Court of Criminal Appeals, matters submitted pursuant to United States v. Grostefon, 12 M.J. 431 (C.M.A. 1982), and other required matter) shall also be filed electronically unless it consists of more than 50 pages. In such a case, the appendix may be submitted on paper and the supplement submitted electronically. In lieu of submitting an appendix in excess of 50 pages on paper, counsel may submit it in a CD or DVD format and note in the supplement that it is being filed in that format under separate cover. Record matters in the form of video media on CD-ROM or DVD may be submitted in a separate volume of the appendix that is filed in accordance with Rule 21(b).

d. A petition for grant of review filed personally by an appellant shall be filed on paper, as provided under Rule 20(a). All subsequent documents related to the petition for grant of review filed by counsel in such a case may be filed on paper or electronically.

e. The Joint Appendix to the brief will be filed in paper form only with the required number of paper copies rather than electronically. If the appellant or petitioner files the brief electronically, the Joint Appendix will be filed on the same day the brief is filed electronically.

2. Electronic Filing Address.

Counsel shall electronically file pleadings using an electronic mail message at the following e-mail address: efiling@armfor.uscourts.gov. For questions or help concerning the electronic filing of pleadings, counsel should contact the Clerk's Office at (202) 761-1448.

3. Procedure.

a. The electronic filing of a pleading in compliance with these Guidelines shall constitute filing under the Rules of Practice and Procedure. The pleading will be deemed filed as of the date and time of the transmission of the electronic mail message.

b. The electronic mail message shall contain the following in the subject block: (1) The name of the case; (2) the docket number if a docket number has been assigned; and (3) the words “electronic filing.” A description of the nature of the pleading will be included in the body of the electronic mail message.

c. The pleading shall be attached to the electronic mail message in Portable Document Format (PDF), and, when printed, shall be in compliance with the Rules of Practice and Procedure of the Court.

d. Counsel shall send an electronic copy of the message and all attachments to opposing counsel to accomplish service of the pleading under Rule 39. This may be accomplished by listing opposing counsel as a “cc” recipient of the electronic message.

e. The brief attached to an electronic filing shall contain the conformed signature (“/s/”) or digital signature of the attorney of record. This will comply with the requirements of Rule 38.

f. If a pleading is filed electronically in accordance with this Order, the party filing the pleading is not required to prepare and file printed copies of that pleading under Rules 37(a) and 37(b)(2). The Court will send a reply electronic message to the sender indicating receipt of the electronic filing. Electronic filers are advised that if they do not receive a reply electronic message by the following business day, they should immediately contact the Clerk's Office.

g. Classified material and material under seal will not be filed electronically. If such matters need to be filed, they will be submitted to the Court on paper as a supplemental filing to the document in which they would otherwise appear. In such cases, counsel will include in the text of the electronic mail message a notation that classified or sealed material is being separately submitted. The classified or sealed material will be appropriately packaged, marked and delivered, and will include a notation that it accompanies an electronic filing in the case. All classified material will be handled in accordance with Rule 12.

h. Counsel will refrain from including and shall redact the following personal data identifiers from documents filed with the Court:

• Social security numbers

• Names of minors

• Dates of birth

• Financial account numbers

• Home addresses.

Comment: The proposed change will authorize all pleadings, except as noted in the Order, to be filed in an electronic format. Previously, only petition stage documents could be filed electronically. If a pleading is filed electronically, paper copies will not be filed. As an alternative, filing on paper will still be permitted in lieu of electronic filing.

[FR Doc. 2010-13095 Filed 6-1-10; 8:45 am]

BILLING CODE 5001-06-P